DEPARTMENT OF THE INTERIOR

Fish and Wildlife Service

[FWS-R2-ES-2014-N184; FXES11130200000-145-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before October 15, 2014.

ADDRESSES: Wendy Brown, Chief, Recovery and Restoration Branch, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6665.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-41812B

Applicant: U.S. Geological Survey-Leetown Science Center, Leetown, West Virginia.

Applicant requests a new permit for research and recovery purposes to hold and conduct genetic research on fountain darters (Etheostoma fonticola) that will be obtained from U.S. Fish and Wildlife Service fish hatcheries, at the science center in West Virginia.

Permit TE-082497

Applicant: Huggins Enterprises, LLC., Ardmore, Oklahoma.

Applicant requests a renewal to a current permit for research and recovery purposes to conduct presence/absence surveys of American burying beetle (Nicrophorus americanus) within Arkansas, Kansas, Oklahoma, and Texas.

Permit TE-89061A

Applicant: Arizona State University School of Life Sciences, Tempe, Arizona.

Applicant requests an amendment to a current permit for research and recovery purposes to conduct presence/absence surveys for Huachuca water umbel (Lilaeopsis schaffneriana var. recurva) within Arizona, including soil core collections and ecological monitoring for soil moisture, soil type, population size, disturbance level, and species richness.

Permit TE-41814B

Applicant: Tucson Audubon Society, Tucson, Arizona.

Applicant requests a new permit for research and recovery purposes to conduct presence/absence surveys for southwestern willow flycatcher (Empidonax traillii extimus) within New Mexico and Arizona.

Permit TE-118414

Applicant: Cherokee Nation, Tahlequah, Oklahoma.

Applicant requests a renewal to a current permit for research and recovery purposes to conduct presence/absence surveys of American burying beetle (Nicrophorus americanus) within Oklahoma.

Permit TE-063395

Applicant: Jenks Aquarium Authority, Jenks, Oklahoma.

Applicant requests a renewal to a current permit for research and recovery purposes to conduct husbandry and holding for educational purposes for the loggerhead (Caretta caretta) and green (Chelonia mydas) sea turtles at the aquarium in Oklahoma.

Permit TE-44542B

Applicant: Olsson Associates, Oklahoma City, Oklahoma.

Applicant requests a new permit for research and recovery purposes to conduct presence/absence surveys of the following species within Oklahoma:

• American burying beetle (Nicrophorus americanus)

• Gray bat (Myotis grisescens)

• Indiana bat (Myotis sodalis)

• Interior least tern (Sterna antillarum)

• Leopard darter (Percina pantherina)

• Neosho madtom (Noturus placidus)

• Ouachita pocketbook (Arkansia wheeleri)

• Ozark big-eared bat (Corynorhinus townsendii ingens)

• Piping plover (Charadrius melodus)

• Whooping crane (Grus americana)

• Winged mapleleaf (Quadrula fragosa)

Permit TE-141253

Applicant: Priscilla Crawford, Norman, Oklahoma.

Applicant requests a new permit for research and recovery purposes to conduct presence/absence surveys of interior least tern (Sterna antillarum) within Oklahoma.

Permit TE-44544B

Applicant: Russell Zora, Bartlesville, Oklahoma.

Applicant requests a new permit for research and recovery purposes to conduct presence/absence surveys for American burying beetle (Nicrophorus americanus) within Oklahoma, Arkansas, Missouri, and Kansas.

Permit TE-150490

Applicant: John Maresh, Austin, Texas.

Applicant requests a renewal to a current permit for research and recovery purposes to conduct presence/absence surveys of black-capped vireo (Vireo atricapilla) and golden-cheeked warbler (Dendroica chrysoparia) within Texas.

Permit TE-44545B

Applicant: Michael Horvath, Dripping Springs, Texas.

Applicant requests a new permit for research and recovery purposes to conduct presence/absence surveys of the following species within Texas:

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Golden-cheeked warbler (Dendroica chrysoparia)

• Government Canyon Bat Cave meshweaver (Cicurina vespera)

• Government Canyon Bat Cave spider (Neoleptoneta microps)

• Ground beetle (Unnamed) (Rhadine exilis)

• Ground beetle (Unnamed) (Rhadine infernalis)

• Helotes mold beetle (Batrisodes venyivi)

• Houston toad (Bufo houstonensis)

• Kretschmarr Cave mold beetle (Texamaurops reddelli)

• Madla Cave meshweaver (Cicurina madla)

• Piping plover (Charadrius melodus)

• Red-cockaded woodpecker (Picoides borealis)

• Robber Baron Cave meshweaver (Cicurina baronia)

• Southwestern willow flycatcher (Empidonax traillii extimus)

• Tooth Cave ground beetle (Rhadine persephone)

• Tooth Cave pseudoscorpion (Tartarocreagris texana)

• Tooth Cave spider (Neoleptoneta (=Leptoneta) myopica)

Permit TE-44547B

Applicant: Thomas Dixon, Austin, Texas.

Applicant requests a new permit for research and recovery purposes to conduct presence/absence surveys of the following species within Texas:

• Barton Springs salamander (Eurycea sosorum)

• Black-capped vireo (Vireo atricapilla)

• Comal Springs dryopid beetle (Stygoparnus comalensis)

• Comal Springs riffle beetle (Heterelmis comalensis)

• Fountain darter (Etheostoma fonticola)

• Golden-cheeked warbler (Dendroica chrysoparia)

• Houston toad (Bufo houstonensis)

• Interior least tern (Sterna antillarum)

• Northern aplomado falcon (Falco femoralis)

• Peck's Cave amphipod (Stygobromus (=stygonectes) pecki)

• Piping plover (Charadrius melodus)

• Red-cockaded woodpecker (Picoides borealis)

• San Marcos gambusia (Gambusia georgei)

• San Marcos salamander (Eurycea nana)

• Texas blind salamander (Eurycea rathbuni)

Permit TE-051819

Applicant: Fort Worth Zoo, Fort Worth, Texas.

Applicant requests a renewal to a current permit for research and recovery purposes to conduct husbandry and holding of black-footed ferrets (Mustela nigripes), Barton Springs salamanders (Eurycea sosorum), and Houston toads (Bufo houstonensis) at the zoo in Texas.

Permit TE-841

Applicant: Bowman Consulting Group, Ltd., Austin, Texas.

Applicant requests a renewal to a current permit for research and recovery purposes to conduct presence/absence surveys of the following species in Texas:

• Attwater's greater-prairie chicken (Tympanuchus cupido attwateri)

• Barton Springs salamander (Eurycea sosorum)

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Comal Springs dryopid beetle (Stygoparnus comalensis)

• Comal Springs riffle beetle (Heterelmis comalensis)

• Fountain darter (Etheostoma fonticola)

• Golden-cheeked warbler (Dendroica chrysoparia)

• Government Canyon Bat Cave meshweaver (Cicurina vespera)

• Government Canyon Bat Cave spider (Neoleptoneta microps)

• Ground beetle (Unnamed) (Rhadine exilis)

• Ground beetle (Unnamed) (Rhadine infernalis)

• Hawksbill sea turtle (Eretmochelys imbricata)

• Helotes mold beetle (Batrisodes venyivi)

• Houston toad (Bufo houstonensis)

• Interior least tern (Sterna antillarum)

• Jaguarundi (Herpailurus yagouaroundi)

• Kretschmarr Cave mold beetle (Texamaurops reddelli)

• Madla Cave meshweaver (Cicurina madla)

• Mexican long-nosed bat (Leptonycteris nivalis)

• Northern aplomado falcon (Falco femoralis)

• Ocelot (Leopardus pardalis)

• Peck's Cave amphipod (Stygobromus (=stygonectes) pecki)

• Piping plover (Charadrius melodus)

• Red-cockaded woodpecker (Picoides borealis)

• Robber Baron Cave meshweaver (Cicurina baronia)

• San Marcos salamander (Eurycea nana)

• Southwestern willow flycatcher (Empidonax traillii extimus)

• Texas blind salamander (Eurycea rathbuni)

• Tooth Cave ground beetle (Rhadine persephone)

• Tooth Cave pseudoscorpion (Tartarocreagris texana)

• Tooth Cave spider (Neoleptoneta (=Leptoneta) myopica)

• Whooping crane (Grus americana)

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: September 4, 2014.
Joy E. Nicholopoulos,
Acting Regional Director, Southwest Region, U.S. Fish and Wildlife Service.

[FR Doc. 2014-21922 Filed 9-12-14; 8:45 am]

BILLING CODE 4310-55-P